DEPARTMENT OF ENERGY

Federal Energy Regulatory Commission

[Docket No. RP00-465-002 and RP00-616-002]

CMS Trunkline LNG Company, LLC; Notice of Compliance Filing

April 1, 2003.

Take notice that on March 28, 2003, CMS Trunkline LNG Company, LLC (TLNG) tendered for filing as part of its FERC Gas Tariff, First Revised Volume No. 1-A, the revised tariff sheets listed in Appendix A attached to the filing proposed to become effective April 1, 2003.

TLNG states that this filing is being made to comply with the Commission's Letter Order dated March 20, 2003 in Docket Nos. RP00-465-001 and RP00-616-001. TLNG also states that this filing reflects the Commission's acceptance of tariff revisions in Docket No RP02-446-000 to comply with Order No. 587-O and incorporate NAESB Version 1.5 standards in TLNG's tariff that were filed and implemented between the filing and approval of the tariff sheets in the subject docket.

TLNG's states that copies of this filing are being served on all jurisdictional customers, interested state regulatory agencies and parties to this proceeding.

Any person desiring to protest said filing should file a protest with the Federal Energy Regulatory Commission, 888 First Street, NE., Washington, DC 20426, in accordance with Section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: April 9, 2003.

Magalie R. Salas,
Secretary.

[FR Doc. 03-8462 Filed 4-7-03; 8:45 am]

BILLING CODE 6717-01-P